THE NATIONAL FOUNDATION FOR THE ARTS AND THE HUMANITIES

Institute of Museum and Library Services

Submission for OMB Review, Comment Request, Proposed Collection: IMLS Collections Assessment for Preservation Forms

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of seven IMLS Collections Assessment for Preservation Forms. A copy of the proposed information collection request can be obtained by contacting the individual listed below in the ADDRESSES section of this notice.

DATES: Written comments must be submitted to the office listed in the FOR FURTHER INFORMATION CONTACT section below on or before April 25, 2021.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Christopher J. Reich, Chief Administrator, Office of Museum Services, Institute of Museum and Library Services, 955 L'Enfant Plaza North SW, Suite 4000, Washington DC 20024-2135. Mr. Reich can be reached by telephone at 202-653-4568, by email at creich@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: This notice proposes the clearance of Collections Assessment for Preservation Forms. The 60-day Notice was published in the Federal Register on January 13, 2022 (86 FR 2704). The agency received no comments under this notice.

The Collections Assessment for Preservation (CAP) program allows up to two qualified conservators, who serve as assessors, to study of all of a museum's collections, buildings and building systems, as well as its policies and procedures relating to collections care. Participants who complete the program receive a report prepared by the assessor(s) with prioritized recommendations to improve collections care.

The purpose of this Notice is to solicit comments concerning the three-year approval of the seven forms necessary to support the administration and implementation of the IMLS Collections Assessment for Preservation (CAP) program. These are an Application Form to collect information about museums that wish to be considered for enrollment in the program; an Assessor Application Form to information necessary to determine whether potential conservators/assessors have sufficient qualifications to participate in the program; a Site Questionnaire to provide more detailed information about a museum to prepare for its assessment once it is accepted for participation in the program; an Application Feedback Form for museums to share information about how they heard about the program and to provide feedback about the application process; an Assessor Feedback Form for conservators/assessors to share their experiences with the CAP assessment; a Participant Feedback Form to help IMLS and the program administrator gain a better understanding of the experience of museums after participating in the program and to help improve the program for future years; and a Follow-Up Survey for CAP participants to share their longer-term experiences as a result of program participation to help IMLS and the program administrator make improvements over time. These forms are used by the administrator of the CAP program and are necessary to support the management of the program and ongoing improvements to the services it provides. These are web-based forms that can be completed online via application software and SurveyMonkey, allowing faster response and reducing participant burden. Paper versions of the forms can be made available for small museums that may have limited or no access to the necessary technology.

Each application cycle to the CAP program engages new participating museums, therefore requiring the use of the forms for every participant. Assessor Application Forms need only be filled out once by conservators/assessors who may participate in multiple application cycles. Assessor Feedback Forms are completed by each assessor each year.

The CAP program could not function effectively without application forms to select eligible participants and site questionnaires to prepare them for the assessors' site visit. The feedback forms are necessary to gather information that is used to improve program services each year. Each of these forms has been reviewed by a steering committee of subject matter experts to ensure that they information collected is both clear and necessary to support the program.

Agency: Institute of Museum and Library Services.

Title: Collections Assessment for Preservation Forms.

OMB Control Number: 3137-NEW.

Agency Number: 3137.

Affected Public: Museum professionals and professional conservators.

Total Number of Respondents: 710.

Frequency of Response: Once.

Average Hours per Response: 1.44.

Total Burden Hours: 950.

Total Annualized Capital/Startup Costs: n/a.

Total Annual Cost Burden: $27,008.50.

Total Annual Federal Costs: $4,721.82.

Dated: March 22, 2021.
Kim Miller,
Senior Grants Management Specialist, Institute of Museum and Library Services.

[FR Doc. 2021-06159 Filed 3-24-21; 8:45 am]

BILLING CODE 7036-01-P